DEPARTMENT OF COMMERCE

International Trade Administration

[A-570-020, A-274-806]

Melamine From the People's Republic of China and Trinidad and Tobago: Postponement of Preliminary Determinations of Antidumping Duty Investigations

AGENCY: Enforcement and Compliance, International Trade Administration, Department of Commerce.

DATES: Effective March 12, 2015.

FOR FURTHER INFORMATION CONTACT: Paul Stolz (People's Republic of China) and Laurel LaCivita (Trinidad and Tobago), AD/CVD Operations, Office III, Enforcement and Compliance, International Trade Administration, U.S. Department of Commerce, 14th Street and Constitution Avenue NW., Washington, DC 20230; telephone: (202) 482-4474 and (202) 482-4243, respectively.

SUPPLEMENTARY INFORMATION:

Background

On December 2, 2014, the Department of Commerce (“Department”) initiated antidumping duty investigations on melamine from the People's Republic of China (“PRC”) and Trinidad and Tobago.¹ Section 733(b)(1)(A) of the Tariff Act of 1930, as amended (“the Act”), and 19 CFR 351.205(b)(1) state that the Department will make a preliminary determination no later than 140 days after the date of the initiation. The current deadline for the preliminary determinations of these investigations is no later than April 21, 2015.

¹ See Melamine from the People's Republic of China and Trinidad and Tobago: Initiation of Less-Than-Fair-Value Investigations, 79 FR 73037 (December 9, 2014).

Postponement of Preliminary Determination

On February 25, 2015, Cornerstone Chemical Company (“Petitioner”), made timely requests, pursuant to 19 CFR 351.205(e), for postponement of the preliminary determinations, in order to facilitate the Department's analysis of respondents' questionnaire responses and interested parties' surrogate value data submissions, to resolve other outstanding issues, and to issue any necessary supplemental questionnaires. Because there are no compelling reasons to deny the requests, in accordance with section 733(c)(1)(A) of the Act, the Department is postponing the deadline for the preliminary determinations by 50 days.

For the reasons stated above, the Department, in accordance with section 733(c)(1)(A) of the Act, is postponing the deadline for the preliminary determinations to no later than 190 days after the date on which the Department initiated these investigations. Therefore, the new deadline for the preliminary determinations is June 10, 2015. In accordance with section 735(a)(1) of the Act, the deadline for the final determinations of these investigations will continue to be 75 days after the date of the preliminary determinations, unless postponed at a later date.

This notice is issued and published pursuant to section 733(c)(2) of the Act and 19 CFR 351.205(f)(1).

Dated: March 4, 2015.
Paul Piquado,
Assistant Secretary for Enforcement and Compliance.

[FR Doc. 2015-05697 Filed 3-11-15; 8:45 am]

BILLING CODE 3510-DS-P